DEPARTMENT OF TRANSPORTATION

Federal Aviation Administration

14 CFR Part 39

[Docket No. 2002-NM-95-AD]

RIN 2120-AA64

Airworthiness Directives; Boeing Model 757-200 Series Airplanes

AGENCY: Federal Aviation Administration, DOT.

ACTION: Notice of proposed rulemaking (NPRM).

SUMMARY: This document proposes the supersedure of an existing airworthiness directive (AD), applicable to certain Boeing Model 757-200 series airplanes, that currently requires modification of the number 3 left and right emergency exit doors. This action would require a new, improved modification of the number 3 left and right emergency exit doors, which would terminate the requirements in the existing AD. The actions specified by the proposed AD are intended to prevent the number 3 emergency exit doors from jamming, which could impede the safe evacuation of passengers and crew during an emergency. This action is intended to address the identified unsafe condition.

DATES: Comments must be received by July 17, 2003.

ADDRESSES: Submit comments in triplicate to the Federal Aviation Administration (FAA), Transport Airplane Directorate, ANM-114, Attention: Rules Docket No. 2002-NM-95-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-95-AD” in the subject line and need not be submitted in triplicate. Comments sent via the Internet as attached electronic files must be formatted in Microsoft Word 97 for Windows or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: Keith Ladderud, Aerospace Engineer, Airframe Branch, ANM-120S, FAA, Seattle Aircraft Certification Office, 1601 Lind Avenue, SW., Renton, Washington 98055-4056; telephone (425) 917-6435; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-95-AD.” The postcard will be date stamped and returned to the commenter.

Availability of NPRMs

Any person may obtain a copy of this NPRM by submitting a request to the FAA, Transport Airplane Directorate, ANM-114, Attention: Rules Docket No. 2002-NM-95-AD, 1601 Lind Avenue, SW., Renton, Washington 98055-4056.

Discussion

On December 13, 1990, the FAA issued AD 91-01-05, amendment 39-6850 (55 FR 52967, December 26, 1990), applicable to certain Boeing Model 757 series airplanes, to require modification of the number 3 left and right emergency exit doors. That action was prompted by reports of doors becoming jammed during attempted operation. The requirements of that AD are intended to prevent the potential for reduced passenger evacuation capability during an emergency.

Actions Since Issuance of Previous Rule

Since the issuance of AD 91-01-05, we have received several reports from operators of difficulty in opening the number 3 emergency exit door on Boeing Model 757-200 series airplanes having a four-door configuration. The reports indicate that, as the door handle was pulled and the door raised, the small hinged panel above the door did not release from its latched position. In each case, as the door raised, it jammed against the hinged panel. In some cases the door would not open, and in other cases the door opened, but a great amount of exertion had to be used. In light of these incidents, the manufacturer has developed a new, improved modification that will prevent jamming of the number 3 left and right emergency exit doors. The FAA approved this modification as an alternative method of compliance and as an option to the terminating action requirements of AD 91-01-05.

Explanation of Relevant Service Information

The FAA has reviewed and approved Boeing Special Attention Service Bulletin 757-25-0237, Revision 2, dated December 12, 2002, which describes procedures for modification of the number 3 left and right emergency exit doors. The modification involves replacing the header panel assemblies of the number 3 left and right emergency exit doors (includes replacing the double hinged panels above the doors with new single panels), trimming the top portion of the door liner seal, and installing a new seal, retainer, and support angle. The service bulletin references the procedures for an operational test specified in the Boeing 757 Airplane Maintenance Manual after the modification has been done. Accomplishment of the actions specified in the service bulletin is intended to adequately address the identified unsafe condition.

Explanation of Requirements of Proposed Rule

Since an unsafe condition has been identified that is likely to exist or develop on other products of this same type design, the proposed AD would supersede AD 91-01-05 to require a new, improved modification of the number 3 left and right emergency exit doors, which would terminate the requirements in the existing AD. The actions would be required to be accomplished in accordance with the service bulletin described previously.

Cost Impact

There are approximately 398 airplanes of the affected design in the worldwide fleet. The FAA estimates that 117 airplanes of U.S. registry would be affected by this proposed AD.

The FAA has reviewed the figures it has used in the past in calculating the economic impact of AD activity. In order to account for various inflationary costs in the airline industry, the FAA has determined that it is necessary to increase the labor rate used in these calculations to $60 per work hour. The cost impact information, below, has been revised to reflect this increase in the specified hourly labor rate.

The modification that is currently required by AD 91-01-05 takes approximately 3 work hours per airplane to accomplish, at an average labor rate of $60 per work hour. Required parts will cost approximately $95 per airplane. Based on these figures, the cost impact of the currently required modification is estimated to be $275 per airplane.

The new modification that is proposed in this AD action would take approximately 6 work hours per airplane (3 work hours per door) to accomplish, at an average labor rate of $60 per work hour. Required parts would cost approximately $8,000 per kit, per airplane. Based on these figures, the cost impact of the proposed new modification on U.S. operators is estimated to be $978,120, or $8,360 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-6850 (55 FR 52967, December 26, 1990), and by adding a new airworthiness directive (AD), to read as follows:

Boeing: Docket 2002-NM-95-AD. Supersedes AD 91-01-05, Amendment 39-6850.

Applicability: Model 757-200 series airplanes having a four-door configuration, as listed in Boeing Special Attention Service Bulletin 757-25-0237, Revision 2, dated December 12, 2002; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the number 3 emergency exit doors from jamming, which could impede the safe evacuation of passengers and crew during an emergency, accomplish the following:

Modification

(a) Within 36 months after the effective date of this AD: Modify the number 3 left and right emergency exit doors per the Accomplishment Instructions of Boeing Special Attention Service Bulletin 757-25-0237, Revision 2, dated December 12, 2002. The modification involves replacing the header panel assemblies of the number 3 left and right emergency exit doors (includes replacing the double hinged panels above the doors with new single panels), trimming the top portion of the door liner seal, and installing a new seal, retainer, and support angle. Accomplishment of the modification required by this paragraph terminates the requirements of AD 91-01-05, amendment 39-6850.

Credit for Actions Done per Previous Issue of Service Bulletin

(b) Modifications done before the effective date of this AD per Boeing Special Attention Service Bulletin 757-25-0237 dated October 18, 2001, or Revision 1, dated January 24, 2002, are considered acceptable for compliance with paragraph (a) of this AD.

Alternative Methods of Compliance

(c) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 2: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Issued in Renton, Washington, on May 23, 2003.
Vi L. Lipski,
Manager, Transport Airplane Directorate, Aircraft Certification Service.

[FR Doc. 03-13657 Filed 5-30-03; 8:45 am]

BILLING CODE 4910-13-P